DEPARTMENT OF COMMERCE

International Trade Administration

[A-583-820, A-570-822]

Certain Helical Spring Lock Washers From Taiwan and the People's Republic of China: Final Results of the Expedited Third Five-Year Sunset Reviews of the Antidumping Duty Orders

AGENCY: Import Administration, International Trade Administration, Department of Commerce.

DATES: Effective Date: October 4, 2011.

SUMMARY: On June 1, 2011, the Department of Commerce (“Department”) initiated the third sunset reviews of the antidumping duty orders on certain helical spring lock washers (“lock washers”) from Taiwan and the People's Republic of China (“PRC”). The Department has conducted expedited sunset reviews of these orders. As a result of these reviews, the Department finds that revocation of the antidumping duty orders would likely lead to a continuation or recurrence of dumping at the margins identified in the “Final Results of Review” section of this notice.

FOR FURTHER INFORMATION CONTACT: Joshua Morris, AD/CVD Operations, Office 1, Import Administration, International Trade Administration, U.S. Department of Commerce, 14th Street and Constitution Avenue, NW., Washington, DC 20230; telephone (202) 482-1779.

SUPPLEMENTARY INFORMATION:

Background

On June 1, 2011, the Department published the notice of initiation of the third sunset review of the antidumping duty orders on lock washers from Taiwan and the PRC pursuant to section 751(c) of the Tariff Act of 1930, as amended (“the Act”). See Initiation of Five-Year (“Sunset”) Review, 76 FR 31588 (June 1, 2011). On June 13, 2011, the Department received a notice of intent to participate in both of these reviews from Shakeproof Assembly Components Division of Illinois Tool Works Inc. (“Shakeproof”), within the deadline specified in 19 CFR 351.218(d)(1)(i). Shakeproof, Petitioner in these proceedings, claimed interested party status for both of these reviews under section 771(9)(C) of the Act, as a producer of the domestic like product.

On June 30, 2011, the Department received a complete substantive response from Petitioner for both reviews within the deadline specified in 19 CFR 351.218(d)(3)(i). We received no substantive responses from any respondent interested parties. As a result, pursuant to section 751(c)(3)(B) of the Act and 19 CFR 351.218(e)(1)(ii)(C)(2), the Department conducted expedited sunset reviews of these antidumping duty orders.

Scope of the Orders

The products covered by the orders are lock washers of carbon steel, of carbon alloy steel, or of stainless steel, heat-treated or non-heat-treated, plated or non-plated, with ends that are off-line. Lock washers are designed to: (1) Function as a spring to compensate for developed looseness between the component parts of a fastened assembly; (2) distribute the load over a larger area for screws or bolts; and (3) provide a hardened bearing surface. The scope does not include internal or external tooth washers, nor does it include spring lock washers made of other metals, such as copper.

Lock washers subject to the orders are currently classifiable under subheadings 7318.21.0000 and 7318.21.0030 of the Harmonized Tariff Schedule of the United States (“HTSUS”). Although the HTSUS subheading is provided for convenience and customs purposes, the written description of the scope of this proceeding is dispositive.¹

¹ On September 30, 1997, the Department determined that lock washers which are imported into the United States in an uncut, coil form are within the scope of the orders. See Notice of Scope Rulings, 62 FR 62288 (November 21, 1997).

Analysis of Comments Received

All issues raised in these reviews are addressed in the Issues and Decision Memorandum (“Decision Memorandum”) from Christian Marsh, Deputy Assistant Secretary for Antidumping and Countervailing Duty Operations, to Ronald K. Lorentzen, Deputy Assistant Secretary for Import Administration, dated concurrently with this notice, which is hereby adopted by this notice. The issues discussed in the Decision Memorandum include the likelihood of continuation or recurrence of dumping and the magnitude of the margins likely to prevail if the orders were revoked. Parties can find a complete discussion of all issues raised in these reviews and the corresponding recommendations in this public memorandum, which is on file in the Central Records Unit in room 7046 of the main Department building.

In addition, a complete version of the Decision Memorandum can be accessed directly on the Internet at http://www.ia.ita.doc.gov/frn. The paper copy and electronic version of the Decision Memorandum are identical in content.

Final Results of Review

Pursuant to sections 752(c)(1) and (3) of the Act, we determine that revocation of the antidumping duty orders on lock washers from Taiwan and the PRC would be likely to lead to continuation or recurrence of dumping at the following weighted-average percentage margins:

Manufacturers/producers/exporters | Margin (percent)
Lock Washers From Taiwan
Spring Lake Enterprises Co., Ltd | 31.93
Ceimiko Industrial Co., Ltd | 31.93
Par Excellence Industrial Co., Ltd | 31.93
All-Others | 31.93

Exporters | Margin (percent)
Lock Washers from the PRC
Hangzhou Spring Washer Co., Ltd. a/k/a Zhejiang Wanxin Group Co., Ltd
Co., Ltd. a/k/a Hangzhou Spring Washer Plant (“HSWP”) | 69.88
HSWP via IFI Morgan Limited | 69.88
HSWP via Carway Development Ltd | 69.88
HSWP via Midway Fasteners Ltd | 69.88
HSWP via Linkwell Industry Co., Ltd | 69.88
HSWP via Fastwell Industry Co., Ltd | 69.88
HSWP via Sunfast International Corp | 69.88
HSWP via Winner Standard Parts Co., Ltd | 69.88
PRC-wide | 128.63

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(c), and 777(i)(1) of the Act.

Dated: September 27, 2011.
Ronald K. Lorentzen
Deputy Assistant Secretary for Import Administration.

[FR Doc. 2011-25594 Filed 10-3-11; 8:45 am]

BILLING CODE 3510-DS-P